NATIONAL LABOR RELATIONS BOARD

29 CFR Parts 101 and 102

RIN 3142-AA12

Representation—Case Procedures

AGENCY: National Labor Relations Board.

ACTION: Request for information; extension of time to submit responses.

SUMMARY: The National Labor Relations Board (the Board) published a Request for Information in the Federal Register of December 14, 2017, seeking information from the public regarding the representation election regulations (the Election Regulations), with a specific focus on amendments to the Board's representation case procedures adopted by the Board's final rule published on December 15, 2014 (the Election Rule or Rule). On January 29, 2018, the Board extended the response deadline to March 19, 2018. The Board has decided to grant an additional 30 days to file responses to the request for information.

DATES: Responses to the request for information published in the Federal Register on December 14, 2017 (82 FR 58783) and extended January 29, 2018 (83 FR 4011) must be received by the Board on or before April 18, 2018. No late responses will be accepted. Responses are limited to 25 pages.

ADDRESSES: Electronic responses may be submitted by going to www.nlrb.gov and following the link to submit responses to this request for information. The Board encourages electronic filing. If you do not have the ability to submit your response electronically, responses may be submitted by mail to: Roxanne Rothschild, Deputy Executive Secretary, National Labor Relations Board, 1015 Half Street SE, Washington, DC 20570.

FOR FURTHER INFORMATION CONTACT: For any assistance, please contact Gary Shinners at (202) 273-3737 or Roxanne Rothschild at (202) 273-2971.

SUPPLEMENTARY INFORMATION: On December 15, 2014, the Board published the Election Rule, which amended the Board's prior Election Regulations. 79 FR 74308 (2014). The Election Rule was adopted after public comment periods in which tens of thousands of public comments were received. The Rule was approved by a three-member Board majority, with two Board members expressing dissenting views. The amendments adopted by the final rule became effective on April 14, 2015, and have been applicable to all representation cases filed on or after that date.

Dated: March 9, 2018.
Roxanne Rothschild,
Deputy Executive Secretary.

[FR Doc. 2018-05156 Filed 3-15-18; 8:45 am]

BILLING CODE P